DEPARTMENT OF COMMERCE

Census Bureau

2002 Economic Census Covering the Retail Trade and Accommodation and Food Services Sectors

ACTION: Proposed collection, comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 30, 2001.

ADDRESSES: Direct all written comments to Madeleine Clayton, Departmental Forms Clearance Officer, Department of Commerce, Room 6086, 14th and Constitution Avenue, NW, Washington, DC 20230 (or via the Internet at mclayton@doc.gov).

FOR FURTHER INFORMATION CONTACT: Requests for additional information or copies of the information collection instrument(s) and instructions should be directed to Fay Dorsett, U. S. Census Bureau, Room 2679, Building 3, Washington DC 20233-0001 (301-457-2687 or via the Internet at fdorsett@census.gov).

SUPPLEMENTARY INFORMATION:

I. Abstract

The economic census, conducted under authority of Title 13, United States Code (U.S.C.), is the primary source of facts about the structure and functioning of the Nation's economy. Economic statistics serve as part of the framework for the national accounts and provide essential information for government, business, and the general public. Economic data are the Census Bureau's primary program commitment during nondecennial census years. The 2002 Economic Census covering retail trade and accommodation and food services sectors (as defined by the North American Industry Classification System (NAICS)) will measure the economic activity of more than 1.6 million establishments. The information collected will produce basic statistics by kind of business on the number of establishments, sales, payroll, and employment. It will also yield a variety of subject statistics, including sales by merchandise line, sales by class of customer, and other industry-specific measures. Primary strategies for reducing burden in Census Bureau economic data collections are to increase electronic reporting through broader use of computerized self-administered census questionnaires, on-line questionnaires, and other electronic data collection methods.

II. Method of Collection

A. Mail Selection Procedures

The retail trade and accommodation and food services sectors of the economic census will select establishments for their mail canvasses from the Census Bureau's Business Register. To be eligible for selection, an establishment will be required to satisfy the following conditions: (i) it must be classified in the retail trade or accommodation and food services sector; (ii) it must be an active operating establishment of a multi-establishment firm (i.e., a firm that operates at more than one physical location), or it must be a single-establishment firm with payroll (i.e., a firm operating at only one physical location); and (iii) it must be located in one of the 50 states or the District of Columbia. Mail selection procedures will distinguish the following groups of establishments:

1. Establishments of Multi-Establishment Firms

Selection procedures will assign all active operating establishments of multi-establishment firms to the mail component of the potential respondent universe. We estimate that the 2002 Economic Census mail canvasses for the retail trade and accommodation and food services sectors will include approximately 630,000 establishments of multi-establishment firms.

2. Single-Establishment Firms With Payroll

As an initial step in the selection process, we will conduct a study of the potential respondent universe. This study will produce a set of industry-specific payroll cutoffs that we will use to distinguish large versus small single-establishment firms within each industry or kind of business. This payroll size distinction will affect selection as follows:

(a) Large Single-Establishment Firms

Selection procedures will assign single-establishment firms having annualized payroll (from Federal administrative records) that equals or exceeds the cutoff for their industry to the mail component of the potential respondent universe. We estimate that the 2002 Economic Census mail canvasses for the retail trade and accommodation and food services sectors will include approximately 482,000 large single-establishment firms.

(b) Small Single-Establishment Firms

Selection procedures will assign a sample of single-establishment firms having annualized payroll below the cutoff for their industry to the mail component of the potential respondent universe. Sampling strata and corresponding probabilities of selection will be determined by a study of the potential respondent universe conducted shortly before mail selection operations begin. We estimate that the 2002 Economic Census mail canvasses for the retail trade and accommodation and food services sectors will include approximately 114,000 small single-establishment firms selected in this sample.

All remaining single-establishment firms with payroll will be represented in the census by data from Federal administrative records. Generally, we will not include these small employers in the census mail canvasses. However, administrative records sometimes have fundamental industry classification deficiencies that make them unsuitable for use in producing detailed industry statistics by geographic area. When we find such a deficiency, we will mail the firm a census classification form. We estimate that the 2002 Economic Census mail canvasses for the retail trade and accommodation and food services sectors will include approximately 387,000 small single-establishment firms that receive these forms.

III. Data

OMB Number: Not available.

Form Number: The 33 standard and seven classification forms used to collect information from businesses in these sectors of the Economic census are tailored to specific business practices and are too numerous to list separately in this notice. Requests for information on the proposed content of the forms should be directed to Fay Dorsett, U.S. Census Bureau, Room 2679, Building 3, Washington DC 20233-0001 (301-457-2687 or via the Internet at fdorsett@census.gov).

Type of Review: Regular review.

Affected Public: State or local governments, businesses, or other for profit or non-profit institutions or organizations.

Estimated Number of Respondents:

Retail Trade (Standard Form)—838,000

Retail Trade (Classification Form)—169,000

Accommodation and Food Services (Standard Form)—386,000

Accommodation and Food Services (Classification Form)—218,000

Total—1,611,000

Estimated Time Per Response:

Retail Trade (Standard Form)—1.00 hours

Retail Trade (Classification Form)—.20 hours

Accommodation and Food Services (Standard Form)—.95 hours

Accommodation and Food Services (Classification Form)—.20 hours

Estimated Total Annual Burden Hours:

Retail Trade (Standard Form)—838,000

Retail Trade (Classification Form)—33,800

Accommodation and Food Services (Standard Form)—366,700

Accommodation and Food Services (Classification Form)—43,600

Total—1,282,100

Estimated Total Annual Cost:

Retail Trade (Standard Form)—$12,838,160

Retail Trade (Classification Form)—$517,816

Accommodation and Food Services (Standard Form)—$5,617,844

Accommodation and Food Services (Classification Form)—$667,952

Total—$19,641,772

Respondent's Obligation: Mandatory.

Legal Authority: Title 13, USC, Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 22, 2001.
Madeleine Clayton,
Departmental Forms Clearance Officer, Office of the Chief Information Officer.

[FR Doc. 01-2514 Filed 1-29-01; 8:45 am]

BILLING CODE 3510-07-P